DEPARTMENT OF THE INTERIOR

Fish and Wildlife Service

[FWS-R5-R-2008-N0189; BAC-4311-K9-S3]

Rappahannock River Valley National Wildlife Refuge, Caroline, Essex, King George, Lancaster, Middlesex, Richmond, and Westmoreland Counties, VA

AGENCY: Fish and Wildlife Service, Interior.

ACTION: Notice of availability of draft comprehensive conservation plan and environmental assessment; request for comments.

SUMMARY: We, the U.S. Fish and Wildlife Service (Service), announce the availability of the draft comprehensive conservation plan (CCP) and draft environmental assessment (EA) for Rappahannock River Valley National Wildlife Refuge (NWR) for a 30-day public review and comment period. In this draft CCP/EA, we describe three alternatives, including our Service-preferred Alternative B, for managing this refuge for the next 15 years. Also available for public review and comment are the draft compatibility determinations, which are included as Appendix B in the draft CCP/EA.

DATES: To ensure our consideration of your written comments, we must receive them by August 24, 2009. We will also hold public meetings in Warsaw and Richmond, Virginia, during the 30-day review period to receive comments and provide information on the draft plan. We will announce and post details about public meetings in local news media, via our project mailing list, and on our regional planning Web site, http://www.fws.gov/northeast/planning/rappahannock/ccphome.html.

ADDRESSES: Send your comments or requests for copies of the draft CCP/EA by any of the following methods. You may also drop off comments in person at Rappahannock River Valley NWR headquarters, located at 336 Wilna Road in Warsaw, Virginia.

U.S. Mail: Nancy McGarigal, Natural Resource Planner, U.S. Fish and Wildlife Service, 300 Westgate Center Drive, Hadley, Massachusetts 01035.

Fax: Attention: Nancy McGarigal, 413-253-8468.

E-mail: northeastplanning@fws.gov. Include “Rappahannock NWR CCP” in the subject line of your e-mail.

Agency Web site: View or download the draft document at http://www.fws.gov/northeast/planning/Rappahannock.html.

FOR FURTHER INFORMATION CONTACT: Joseph McCauley, Project Leader, Eastern Virginia Rivers NWR Complex, 336 Wilna Road, P.O. Box 1030, Warsaw, VA 22572-1030; (804) 333-1470 (phone); 804-333-3396 (fax); fw5rw_evrnwr@fws.gov (e-mail).

SUPPLEMENTARY INFORMATION:

Introduction

With this notice, we continue the CCP process for Rappahannock River Valley NWR, which was started with the notice of intent we published in the Federal Register (70 FR 65931) on November 1, 2005. We prepared the draft CCP in compliance with the National Environmental Policy Act of 1969 and the National Wildlife Refuge System Administration Act of 1966, as amended by the National Wildlife Refuge System Improvement Act of 1997. This refuge is the newest of the four refuges that comprise the Eastern Virginia Rivers NWR Complex. The other three are the James River, Plum Tree Island, and Presquile NWRs.

Rappahannock River Valley NWR, currently 7,711 acres, was established in 1996 to conserve and protect fish and wildlife resources, including endangered and threatened species, and wetlands. Refuge habitats include freshwater tidal marsh, forested swamp, upland deciduous forest, mixed pine forest, and managed grassland. Two Federally listed species are found on the refuge, the endangered shortnose sturgeon (Acipenser brevirostrum) and threatened Sensitive joint-vetch (Aeschynomene virginica). The State of Virginia's largest wintering population of bald eagles is located within the refuge boundary. Neotropical migratory songbirds, shorebirds, raptors, and marsh birds also rely on the Rappahannock River corridor during their spring and fall migrations. With help from partners and volunteers, we are restoring native grasslands and riparian forests along the river and its tributary streams to provide additional habitat for these important species.

Although wildlife and habitat conservation is the refuge's first priority, the public can observe and photograph wildlife, fish, hunt, or participate in environmental education and interpretation on several units of the refuge. The refuge contains three sites on the Virginia Birding and Wildlife Trail. The Wilna Unit, located in Richmond County, offers accessible fishing, excellent wildlife observation opportunities, and accessible nature trails. Other units of the refuge are open for visits by reservation.

Background

The CCP Process

The National Wildlife Refuge System Improvement Act of 1997 (16 U.S.C. 668dd-668ee) (Improvement Act), which amended the National Wildlife Refuge System Administration Act of 1966, requires us to develop a CCP for each national wildlife refuge. The purpose for developing CCPs is to provide refuge managers with 15-year plans for achieving refuge purposes and the mission of the National Wildlife Refuge System, in conformance with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update each CCP at least every 15 years, in accordance with the Improvement Act.

Public Outreach

In conjunction with our November 2005, Federal Register notice announcing our intent to begin the CCP process, we distributed a newsletter to more than 300 State agencies, organizations, and individuals on our project mailing list, asking about their interest in the refuge and whether they had issues or concerns they would like us to address. We distributed another newsletter in December 2005, providing more detailed information on the refuge and the planning process. In that newsletter, we also asked people to share their vision for the future of the refuge and provide us with feedback or comments on its management. Also in December 2005, we held three public scoping meetings, in Richmond, Port Royal, and Warsaw, Virginia. We asked those who attended to identify issues and concerns they would like us to address and to comment on the draft vision, goals and objectives we had at that time. Forty-five people attended those meetings. In 2006, we sponsored a survey of 1,200 local residents, randomly selected, asking specific questions about their recreation on the Rappahannock River, their preferences for future wildlife-dependent recreation on the refuge, and whether they knew about refuge opportunities. Throughout the process, we have conducted additional outreach via newsletters and participation in meetings, community events and other public forums, and continued to request public input on refuge management and programs.

Some of the key issues identified include the amount of grassland to manage, other priority habitat types to conserve, land protection and conservation priorities, improving the visibility of the Service and refuge, providing desired facilities and activities, and ways to improve opportunities for public use while ensuring the restoration and protection of priority resources.

CCP Actions We Are Considering, Including the Service-Preferred Alternative

We developed three management alternatives based on the purposes for establishing the refuge, its vision and goals, and the issues and concerns the public, State agencies, and the Service identified during the planning process. The alternatives have some actions in common, such as protecting and monitoring Federally listed species and the regionally significant bald eagle population, controlling invasive plants and wildlife diseases, encouraging research that benefits our resource decisions, protecting cultural resources, continuing to acquire land from willing sellers within our approved refuge boundary, and distributing refuge revenue sharing payments to counties.

Other actions distinguish the alternatives. The draft CCP/EA describes the alternatives in detail, and relates them to the issues and concerns we identified. Highlights follow.

Alternative A (Current Management)

This alternative is the “No Action” alternative required by the National Environmental Policy Act of 1969 (42 U.S.C. 4321-4347, as amended). Alternative A defines our current management activities, and serves as the baseline against which to compare the other alternatives. Our habitat management focus on the 700 acres of grasslands and old fields would continue, and we would continue to use tools such as prescribed fire, mowing, herbicides and disking to keep them in an early stage of succession and increase plant diversity. We intend to phase out our cooperative farming program on another 200 acres over the next 5 years and convert to grasslands. We would continue to monitor our forests and wetlands for invasive plants and disease, and treat them if we have available funding and staffing. Our biological monitoring and inventory program would continue at its current levels, focusing on surveys of breeding and wintering birds.

Our visitor services programs would not change; we would conduct most of the activities on the Wilna Unit. The Wilna Unit is the only refuge unit open 7 days a week, from sunrise to sunset. The other units are open by reservation only. Wildlife observation and photography, white-tailed deer hunting, and fishing are the most popular activities. Our staffing and facilities would remain the same. Seven staff positions for the refuge complex would remain in place, and the headquarters would remain at the historic Wilna House.

Alternative B (Enhanced Habitat Diversity and the Service-Preferred Alternative)

This alternative is the one we propose as the best way to manage this refuge over the next 15 years. It includes an array of management actions that, in our professional judgment, works best toward achieving the refuge purposes, our vision and goals, and the goals of other State and regional conservation plans. We also believe it most effectively addresses the key issues raised during the planning process.

Our habitat management program would expand to include up to 1,200 acres of managed grasslands and old fields, primarily through new acquisitions from willing sellers within our approved refuge boundary. We would use all the tools identified under Alternative A. We would also phase out our cooperative farming program within 5 years and convert it to grasslands, although we may maintain a minimal number of acres if we determine it would be useful in our interpretation program, or would provide benefits for other programs. We would manage our existing planted pine stands through thinning, to facilitate their growth into a healthy, mature, mixed forest. As in Alternative A, we would continue to monitor our forests and wetlands for invasive plants and disease, and treat them to the extent our funding allows. Protecting and enhancing riparian and wetlands habitat would be a priority. We would also continue our monitoring and inventory program, but regularly evaluate the results to help us better understand the implications of our management actions and identify ways to improve their effectiveness.

We would expand opportunities for all six priority public uses. We would seek partnerships to help us achieve any new or expanded programs, including interpretive trails construction, adding a self-guided canoe trail, and leading environmental education programs using the refuge as a living laboratory. We plan to further evaluate opportunities for waterfowl and turkey hunting. We would also improve and expand access for freshwater fishing. If we can secure permanent funding, we would fill up to four new staff positions to provide depth to our programs and achieve our goals and objectives. We also propose to construct a new, Service-standard small refuge headquarters and visitor contact facility on the Hutchinson tract to increase our visibility and improve public access to refuge land.

Alternative C (Forest Management Emphasis)

This alternative resembles Alternative B in its refuge administration, facilities, and visitor services programs, but differs in its habitat management.

Under Alternative C, we would allow grasslands, old fields, and croplands to revert to shrub and forest, supplementing that process with such activities as plantings, applying herbicides, and cutting or brush-hogging (mowing) as necessary to achieve the desired results. As in Alternative B, we would protect and enhance riparian and wetlands habitats as a priority. We also propose to manage our existing planted pine stands as in Alternative B, and continue to monitor our forests and wetlands for invasive plants and disease and treat them to the extent funding allows. Protecting and enhancing riparian and wetland habitats would also be a priority. Compared to Alternative B, we would conduct a more intensive, focused monitoring and inventory program designed to address more specific questions about habitat quality and the response of wildlife populations. In the near term, monitoring would be aimed specifically at documenting the transition from grasslands, old fields, and croplands to shrub and young forest. Under Alternative C, our public use programs would be similar to those proposed under Alternative B, including our plans to pursue a new headquarters and visitor contact facility.

Public Meetings

We will give the public opportunities to provide input at two public meetings in Warsaw and Richmond, Virginia. You can obtain the schedule from the project leader or natural resource planner (see addresses or FOr Further Information CONTACT, above). You may also submit comments at any time during the planning process by any means shown in the ADDRESSES section.

Public Availability of Comments

Before including your address, phone number, e-mail address, or other personal identifying information in your comments, you should be aware that your entire comment—including your personal identifying information—may be made publicly available at any time. While you can ask us in your comment to withhold your personal identifying information from public review, we cannot guarantee that we will be able to do so.

Dated: May 8, 2009.
Wendi Weber,
Acting Regional Director, U.S. Fish and Wildlife Service, Hadley, MA 01035.

[FR Doc. E9-17546 Filed 7-22-09; 8:45 am]

BILLING CODE 4310-55-P